FEDERAL COMMUNICATIONS COMMISSION

47 CFR Part 25

[IB Docket Nos. 22-411; 22-271; FCC 23-73; FR ID 190672]

Expediting Initial Processing of Satellite and Earth Station Applications; Correction

AGENCY: Federal Communications Commission.

ACTION: Final rule; correction.

SUMMARY: This document corrects the preamble to a final rule published in the Federal Register of December 6, 2023, regarding Expediting the Initial Processing of Satellite and Earth Station Applications. This correction removes a sentence that erroneously stated that a proposed rule relating to further expediting satellite and earth station application processing was published elsewhere in the same issue of the Federal Register. The proposed rule published in the Federal Register of December 8, 2023.

DATES: The correction is effective January 5, 2024.

FOR FURTHER INFORMATION CONTACT: Julia Malette, Attorney Advisor, Satellite Programs and Policy Division, Space Bureau, at 202-418-2453 or julia.malette@fcc.gov.

SUPPLEMENTARY INFORMATION:

Correction

In final rule FR Doc. 2023-26699, in the issue of December 6, 2023, on page 84737 in the 3rd column, remove the sentence: “A proposed rule relating to further expediting satellite and earth station application processing is published elsewhere in this issue of the Federal Register.”

Dated: December 12, 2023.
Federal Communications Commission
Marlene Dortch,
Secretary.

[FR Doc. 2023-27812 Filed 12-18-23; 8:45 am]

BILLING CODE P